DEPARTMENT OF HEALTH AND HUMAN SERVICES

Centers for Disease Control and Prevention

[Docket No. CDC-2012-0001]

Request for Information on Youth Violence

AGENCY: Centers for Disease Control and Prevention, Department of Health and Human Services (HHS).

ACTION: Request for information.

SUMMARY: The Centers for Disease Control and Prevention, is seeking on behalf of the Department of Health and Human Services information for an anticipated Surgeon General response to the public health problem of youth violence.

DATES: Individuals and organizations interested in providing information must submit their comments on/or before February 21, 2012. Comments received after this date will not be considered.

ADDRESSES: Comments may be submitted by any one of the following methods:

• Internet: Electronic comments may be sent via http://www.regulations.gov, docket control number CDC-2012-0001. Please follow the directions on the site to submit comments; or

• Mail: Comments may also be sent by mail to the attention of Kesha Offutt, Office of Policy, Planning, and Evaluation, National Center for Injury Prevention and Control, CDC, 4770 Buford Hwy., Mail Stop F-63, Atlanta, GA 30341.

All relevant comments will be posted without change to http://www.regulations.gov including any personal information provided.

FOR FURTHER INFORMATION CONTACT: Lesley M. Russell BSc (Hons), BA, Ph.D., Senior Public Health Advisor for Outreach and Policy, Office of the US Surgeon General, by telephone at (202) 401-9586, or email at Lesley.Russell@hhs.gov.

SUPPLEMENTARY INFORMATION: Scope of Problem: Youth violence is a significant public health problem with the potential for immediate and lifelong harmful consequences. Although rates of youth violence have dropped since the peak levels in the early 1990s, risk for youth violence remains unacceptably high. Each day, an average of 16 young people between the ages of 10 and 24 years fall victim to homicide and another 1,700 are treated in emergency departments for nonfatal injuries from physical assaults. Youth violence also is associated with high rates of emotional and social difficulties, alcohol and substance use, and academic failure. The damage resulting from youth violence extends beyond the young perpetrators and victims. Violence can increase a community's health care costs, decrease property values, and disrupt social services. Each year, youth homicides and assault-related injuries result in an estimated $14.1 billion in combined medical and work loss costs. These losses and expenditures deprive us of our next generation of healthy and productive citizens and restrict our opportunities to invest in other areas that our nation views as critical.

Approach: The Office of the Surgeon General is interested in increasing attention to the issue of youth violence in the United States and the science that demonstrates youth violence can be prevented from occurring. This document would build on the 2001 Surgeon General's report on youth violence along with 10 years of experience in the field to help our nation understand the causes and impacts of youth violence and how to prevent it from occurring in the first place.

Potential Areas of Focus: CDC is interested in receiving information on the following:

(1) What is the extent of the problem and its consequences.

(2) What are the differences in youth violence prevalence among subgroups and communities and how might they inform prevention approaches.

(3) What is the availability and adaptability of evidence-based prevention programs.

Purpose of Notice: The purpose of this notice is to provide individuals and organizations the opportunity to identify issues and areas of need for consideration as we gather information to inform the Surgeon General's document on youth violence. All comments will receive careful consideration.

Dated: January 5, 2012.
Tanja Popovic,
Deputy Associate Director for Science, Centers for Disease Control and Prevention.

[FR Doc. 2012-918 Filed 1-18-12; 8:45 am]

BILLING CODE 4163-18-P